FEDERAL COMMUNICATIONS COMMISSION

Notice of Public Information Collection(s) Being Submitted for Review to the Office of Management and Budget, Comments Requested

August 6, 2008.

SUMMARY: As part of its continuing effort to reduce paperwork burden and as required by the Paperwork Reduction Act (PRA) of 1995 (44 U.S.C. 3501-3520), the Federal Communications Commission invites the general public and other Federal agencies to comment on the following information collection(s). Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid OMB control number. No person shall be subject to any penalty for failing to comply with a collection of information subject to the Paperwork Reduction Act that does not display a valid OMB control number.

DATES: Written PRA comments should be submitted on or before September 15, 2008. If you anticipate that you will be submitting PRA comments, but find it difficult to do so within the period of time allowed by this notice, you should advise the FCC contact listed below as soon as possible.

ADDRESSES: Submit your comments to Nicholas A. Fraser, Office of Management and Budget (e-mail address: nfraser@omb.eop.gov), and to the Federal Communications Commission's PRA mailbox (e-mail address: PRA@fcc.gov). Include in the e-mails the OMB control number of the collection as shown in the SUPPLEMENTARY INFORMATION section below or, if there is no OMB control number, the Title as shown in the SUPPLEMENTARY INFORMATION section. If you are unable to submit your comments by e-mail contact the person listed below to make alternate arrangements.

FOR FURTHER INFORMATION CONTACT: For additional information contact Leslie F. Smith via e-mail at PRA@fcc.gov or at (202) 418-0217. To view or obtain a copy of an information collection request (ICR) submitted to OMB: (1) Go to this OMB/GSA Web page: http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the OMB control number of the ICR you want to view (or its title if there is no OMB control number) and then click on the ICR Reference Number. A copy of the FCC submission to OMB will be displayed.

SUPPLEMENTARY INFORMATION: OMB Control Number: 3060-XXXX.

Title: Service Quality Measurement Plan for Interstate Special Access and Monthly Usage Reporting Requirements (272 Sunset Rulemaking).

Form Number: N/A.

Type of Review: New collection.

Respondents: Business or other for-profit entities.

Number of Respondents and Responses: 3 respondents; 48 responses annually.

Estimated Time per Response: 25-75 hours.

Obligation to Respond: Required to obtain or retain benefits. 47 U.S.C. 151, 152, 154(i), 154(j), 201-204, 214, 220(a), 251, 252, 271, 272, and 303(r).

Frequency of Response: Monthly and quarterly reporting requirements; third party disclosure.

Total Annual Burden: 3,000 hours.

Total Annual Cost: None.

Privacy Act Impact Assessment: No impact.

Nature of Extent of Confidentiality: The respondents may request confidentiality protection for the special access performance information. The respondents are not required to file their customers' monthly usage information with the Federal Communications Commission (FCC).

Needs and Uses: The service quality measurement plan for interstate special access would require the respondents to report special access performance metrics on a quarterly basis. Because, pursuant to Section 272(f)(1) Sunset of the BOC Separate Affiliate and Related Requirements; 2000 Biennial Regulatory Review Separate Affiliate Requirements of Section 64.1903 of the Commission's Rules; Petition of AT&T Inc. for Forbearance Under 47 U.S.C. 160(c) with Regard to Certain Dominant Carrier Regulations for In-Region, Interexchange Services, WC Docket Nos. 02-112, 06-120, CC Docket No. 00-175, Report and Order and Memorandum Opinion and Order, 22 FCC Rcd 16440 (2007) (Section 272 Sunset Order), the respondents are no longer required to comply with the section 272 structural safeguards, the special access performance metrics reporting requirements will help ensure that these carriers do not engage in non-price discrimination in the provision of special access services to unaffiliated entities and will provide the FCC and other interested parties with reasonable tools to monitor these carriers' performance in providing these special access services to themselves and their competitors. The monthly usage reporting requirement would require the respondents to provide each of their residential customers who subscribe to a call plan that establishes a single rate for unlimited wireline local exchange and long distance telecommunications service with the total number of long distance telecommunications service minutes used by that customer each month. This monthly usage reporting requirement will help ensure that, as a result of the relief granted in the Section 272 Sunset Order residential interstate long distance consumers receive adequate information regarding their monthly usage in order to make informed choices among alternative long distance calling plans.

OMB Control Number: 3060-0760.

Title: 272 Sunset Order, WC Docket No. 06-120; Access Charge Reform, CC Docket No. 96-262 (First Report and Order); Second Order on Reconsideration and Memorandum Opinion and Order, and Fifth Report and Order.

Form Number: N/A.

Type of Review: Revision of a currently approved collection.

Respondents: Businesses or other for-profit.

Number of Respondents and Responses: 17 respondents; 904 responses.

Estimated Time per Response: 3-300 hours.

Frequency of Response: On occasion and one time reporting requirements.

Obligation to Respond: Required to obtain or retain benefits. See 47 FR 69.727.

Total Annual Burden: 30,348 hours.

Total Annual Cost: $700,600.

Privacy Act Impact Assessment: No impacts.

Nature and Extent of Confidentiality: The Commission is not requesting that the respondents submit confidential information to the FCC. Respondents may, however, request confidential treatment for information they believe to be confidential under 47 CFR 0.459 of the Commission's rules.

Needs and Uses: Pursuant to the recently-released Section 272 Sunset Order, FCC 07-159, respondents are no longer required to comply with 47 U.S.C. 272 structural safeguards. As such, the respondents must now file certifications with the Commission prior to providing contract tariff services to itself or to any affiliate that is neither a section 272 nor a rule 64.1903 separate affiliate for use in the provision of any in-region, long distance services that it provides service pursuant to that contract tariff to an unaffiliated customer. The certification requirement will ensure, as a result of the relief granted in FCC 07-159, equivalent protection in the event the BOCs provide in-region, long distance services directly and will be less burdensome and less costly for these providers.

Please note that the Commission is republishing this notice in the Federal Register due to our determination that the initial publication contained several errors and that the methodology use to estimate the burdens should be revised. The initial publication was on July 24, 2008 (73 FR 43228). Also, the revisions to information collection 3060-0760 stem from the 272 Sunset Order that prompted the new information collection 30-day notice being published simultaneously.

Federal Communications Commission.
William F. Caton,
Deputy Secretary.

[FR Doc. E8-18846 Filed 8-13-08; 8:45 am]

BILLING CODE 6712-01-P